POSTAL SERVICE

39 CFR Part 111

Shape-Based Labeling Lists

AGENCY: Postal Service™.

ACTION: Proposed rule.

SUMMARY: The Postal Service (USPS®) is proposing to amend Mailing Standards of the United States Postal Service, Domestic Mail Manual (DMM®) in various sections to implement shape-based labeling lists for SCF letters, flats, and parcels.

DATES: Submit comments on or before December 22, 2025.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Shape-Based Labeling Lists.” Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Steven Mills at (202) 268-7433 or Doriane Harley at (202) 268-2537.

SUPPLEMENTARY INFORMATION: The Postal Service is proposing to implement labeling list changes for SCF letters, flats, and parcels to align with its shape-based network updates.

The Postal Service is proposing to implement these changes effective February 1, 2026.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

207 Periodicals

* * * * *

18.0 General Mail Preparation

* * * * *

18.3 Presort Terms

Terms used for presort levels are defined as follows:* * *

[Revise items (p) and (q) to read as follows:]

p. SCF: the separation includes pieces for two or more 3-digit areas served by the same sectional center facility (SCF)/local processing center (LPC [letters/flats]) or regional processing and distribution center (RPDC [parcels]) (see L005, Column B for letters, L016, Column B for flats, and L051, Column B for parcels) .

q. Origin/entry SCF: the separation includes bundles for one or more 3-digit areas served by the same sectional center facility (SCF)/local processing center (LPC [letters/flats]) or regional processing and distribution center (RPDC [parcels]) (see L005, Column B for letters, L016, Column B for flats, and L051, Column B for parcels) in whose service area the mail is verified/entered.

* * * * *

18.4 Mail Preparation Terms

* * * * *

22.0 Preparing Nonbarcoded (Presorted) Periodicals

* * * * *

22.6 Sack Preparation

* * * * *

[Revise items (c) and (d) to read as follows:]

c. SCF/LPC, required at 72 pieces, optional at 24 pieces minimum.

1. Line 1: use L016, Column B for flats, L051, Column B for parcels.

2. Line 2: “PER” or “NEWS” as applicable; followed by “FLTS” or “NONSTD” as applicable; followed by “SCF”; followed by “NON BC” for flats.

d. Origin/entry SCF/LPC, required for the SCF/LPC of the origin (verification) office, optional for the SCF/LPC of an entry office other than the origin office, (no minimum).

1. Line 1: use L016, Column B for flats, L051, Column B for parcels.

2. Line 2: use “PER” or “NEWS” as applicable; followed by “FLTS” or “NONSTD” as applicable; followed by “SCF”; followed by “NON BC” for flats.

* * * * *

22.7 Tray Preparation—Flat-Size Nonbarcoded Pieces

* * * * *

[Revise items (d) and (e) to read as follows:]

d. SCF/LPC, required at 72 pieces, optional at 24 pieces minimum.

1. Line 1: L016, Column B.

2. Line 2: “PER” or “NEWS” as applicable; followed by “FLTS”; followed by “SCF NON BC.”

e. Origin SCF/LPC (required) and entry SCF/LPC(s) (optional), no minimum, labeling:

1. Line 1: L016, Column B.

2. Line 2: “PER” or “NEWS” as applicable; followed by “FLTS”; followed by “SCF NON BC.”

* * * * *

23.0 Preparing Carrier-Route Periodicals

* * * * *

25.0 Preparing Flat-Size Barcoded (Automation) Periodicals

* * * * *

25.4 Sacking and Labeling

* * * * *

[Revise items (c) and (d) to read as follows:]

c. SCF/LPC, required at 72 pieces, optional at 24 pieces; fewer pieces not permitted; labeling:

1. Line 1: use L016, Column B.

2. Line 2: use “PER FLTS SCF BC” or “NEWS FLTS SCF BC,” as applicable.

d. Origin SCF/LPC (required) and entry SCF/LPC(s) (optional), no minimum; labeling:

1. Line 1: use L016, Column B.

2. Line 2: use “PER FLTS SCF BC” or “NEWS FLTS SCF BC,” as applicable.

* * * * *

25.5 Tray Preparation—Flat-Size Barcoded Pieces

* * * * *

[Revise items (d) and (e) to read as follows:]

d. SCF/LPC (required), 72-piece minimum, optional at 24 pieces, fewer pieces not permitted; labeling:

1. Line 1: L016, Column B.

2. Line 2: “PER” “NEWS” as applicable; followed by “FLTS”; followed by “SCF BC.”

e. Origin SCF/LPC (required) and entry SCF/LPCs) (optional), no minimum, labeling:

1. Line 1: L016, Column B.

2. Line 2: “PER” “NEWS” as applicable; followed by “FLTS”; followed by “SCF BC.”

* * * * *

235 Mail Preparation

* * * * *

1.0 General Definition of Terms

* * * * *

1.3 Terms for Presort Levels

1.3.1 Letters and Cards

Terms used for presort levels are defined as follows: * * *

[Revise item (f) to read as follows:]

f. Origin/optional entry SCF: the separation includes bundles for one or more 3-digit areas served by the same sectional center facility (SCF)/local processing center (LPC) (see L005, Column B) in whose service area the mail is verified/entered. Subject to standard, this separation is required regardless of the mail volume.

* * * * *

8.0 Preparation of Automation Flats

* * * * *

8.5 Traying and Labeling

Tray size, preparation sequence, and Line 1 labeling:

[Revise items (a) and (b) to read as follows:]

a. 5-digit/scheme: optional, but required for 5-digit price (full tray or 50-piece minimum); one less-than-full or overflow tray allowed; see 8.6 for scheme; labeling:

1. Line 1: city, state, and 5-digit ZIP Code on mail (see 204.3.0, for overseas military mail).

2. Line 2: “FCM FLTS 5D BC” or “FCM FLTS BC 5D SCHEME”

b. 3-digit: optional, but required for 3-digit price (full tray or 50-piece minimum); one less-than-full or overflow tray allowed; labeling:

1. Line 1: L002, Column A.

2. Line 2: “FCM FLTS 3D BC.”

* * * * *

245 Mail Preparation

* * * * *

1.0 General Information for Mail Preparation

* * * * *

1.3 Terms for Presort Levels

1.3.1 Letters

Terms used for presort levels are defined as follows:* * *

[Revise item (h) to read as follows:]

h. Origin/optional entry SCF: the separation includes bundles for one or more 3-digit areas served by the same sectional center facility (SCF)/local processing center (LPC) (see L005) in whose service area the mail is verified or entered. Subject to standard, this separation is required regardless of mail volume.

* * * * *

1.3.2 Flats

Terms used for presort levels are defined as follows:* * *

[Revise items (l) and (m) to read as follows:]

l. SCF: the separation includes pieces for two or more 3-digit areas served by the same sectional center facility (SCF)/local processing center (LPC) (see L016). Exception: Where required or permitted by standard, mail for a single 3-digit area may be prepared in an SCF separation when no mail for other 3-digit ZIP Code areas is available. For pallets, the SCF sort may include mail for a single 3-digit ZIP Code area.

m. Origin/optional entry SCF: the separation includes bundles for one or more 3-digit areas served by the same sectional center facility (SCF)/local processing center (LPC) (see L016) in whose service area the mail is verified or entered. Subject to standard, this separation is required regardless of the mail volume.

* * * * *

1.3.3 Marketing Parcels

Terms used for presort levels are defined as follows:* * *

[Revise item (d) to read as follows:]

d. SCF: The separation includes pieces for two or more 3-digit areas served by the same sectional center facility (SCF)/regional processing and distribution center (RPDC) (see L051). Exception: Where required or permitted by standard, mail for a single 3-digit area may be prepared in an SCF separation when no mail for other 3-digit ZIP Code areas is available. For pallets, the SCF sort may include mail for a single 3-digit ZIP Code area.

* * * * *

11.0 Preparing Presorted Parcels

* * * * *

11.4 Preparing Nonstandard Marketing Parcels (Less Than 3.5 Ounces) and Nonprofit Nonstandard Priced Parcels

* * * * *

11.4.3 Sacking and Labeling

Preparation sequence, sack size, and labeling:* * *

[Revise item (b) to read as follows:]

b. SCF; 10-pound minimum; labeling:

1. For Line 1, Use L051, Column B.

2. For Line 2, “STD NONSTD SCF.”

* * * * *

255 Mail Preparation

* * * * *

4.3 Preparing Destination SCF (DSCF)/Destination Regional Processing and Distribution Center (DRPDC) Parcel Select

* * * * *

4.3.2 Basic Standards

Pieces must meet the applicable standards in 4.0 and the following criteria:* * *

[Revise item (d) to read as follows:]

d. Any remaining nonstandard parcels (as defined in 201.7.6) sorted to 3-digit ZIP Code prefixes in L051, Column B. Machinable parcels may not be sorted to the 3-digit level.

* * * * *

265 Mail Preparation

* * * * *

5.0 Preparing Presorted Flats

* * * * *

5.3 Sacking

* * * * *

5.3.3 Sacking and Labeling

Preparation sequence and labeling:* * *

[Revise item (c) to read as follows:]

c. SCF (optional); labeling:

1. Line 1: L016, Column B.

2. Line 2: “PSVC FLTS SCF NON BC.”

* * * * *

7.0 Preparing Barcoded Flats

* * * * *

7.4 Sacking

Preparation sequence, sack size, and labeling:* * *

[Revise item (c) to read as follows:]

c. SCF (optional); minimum 20 addressed pieces; labeling:

1. Line 1: L016, Column B.

2. Line 2: “PSVC FLTS SCF BC.”

* * * * *

8.0 Preparing Presorted Parcels

* * * * *

8.2 Preparing Nonstandard Parcels

* * * * *

8.2.3 Sacking and Labeling

Preparation sequence and labeling:* * *

[Revise item (c) to read as follows:]

c. SCF (optional); labeling:

1. Line 1: L051, Column B.

2. Line 2: “PSVC NONSTD SCF.”

* * * * *

705 Advanced Preparation and Special Postage Payment Systems

* * * * *

8.0 Preparing Pallets

* * * * *

8.10 Pallet Presort and Labeling

8.10.1 First-Class Mail—Letter Trays or Flat Trays

* * * * *

[Revise items (b) and (c) to read as follows:]

b. Origin SCF/LPC (local mail). Required; no minimum. Pallets contain trays destined for the 3-digit ZIP Codes serviced by the origin SCF/LPC facility in L005 for letters, L016 for flats. 3-digit ZIP Code (from L005 for AADC trays and L004 for ADC trays) is within the origin SCF's/LPC's service area; and must place trays containing pieces paid at the single-piece price on origin SCF/LPC pallets, unless required to be presented separately by special postage-payment authorization or customer service agreement (CSA). Labeling:

1. Line 1: L005, Column B for Letters, L016, Column B for Flats.

2. Line 2: “FCM LTRS” or “FCM FLTS,” followed by “SCF.”

c. SCF/LPC. Required. For destinations listed in L201, based on origin ZIP Code. Pallets contain trays destined for the 3-digit ZIP Codes in L005 for Letters, L016 for Flats. Mailers may, at their option, place AADC or ADC trays on SCF/LPC pallets when the tray's “label to” 3-digit ZIP Code (L005 for AADC trays, and L004 for ADC) is within that SCF's/LPC's service area. Labeling:

1. Line 1: L005, Column B for letters, L016, Column B for flats.

2. Line 2: “FCM LTRS” or “FCM FLTS,” followed by “SCF.”

* * * * *

8.10.2 Periodicals—Bundles, Sacks, Letter Trays or Flat Trays

* * * * *

[Revise item (h) to read as follows:]

h. SCF/LPC (letters, flats)/RPDC (parcels), required, permitted for bundles, trays, and sacks (nonstandard parcels only). The pallet may contain carrier-route-price, automation-price, and/or Presorted-price mail for the 3-digit ZIP Code groups in L005 for letters, L016 for flats, L051 for parcels. Labeling:

1. Line 1: L005, Column B for letters, L016, Column B for flats, L051, Column B for parcels.

2. Line 2: “PER” or “NEWS,” as applicable; followed by “FLTS,” “NONSTD,” or “LTRS,” as applicable; followed by “SCF”; followed by “BARCODED” (or “BC”) if pallet contains automation-price mail; followed by “NONBARCODED” (or “NBC”) if pallet contains carrier-route-price mail and/or Presorted-price mail.

* * * * *

8.10.3 USPS Marketing Mail—Bundles, Sacks, or Trays

* * * * *

[Revise item (f) to read as follows:]

f. SCF/LPC (letters, flats)/RPDC (parcels), required, permitted for bundles, trays, and sacks (nonstandard parcels only). The pallet may contain carrier-route, automation-price, and/or presorted-price mail for the 3-digit ZIP Code groups in L005 for letters, L016 for flats, L051 for parcels. Mailers may, at their option, place AADC trays on SCF/LPC (letters, flats)/RPDC (parcels) pallets when the tray's “label to” 3-digit ZIP Code (from L005) is within that SCF's/LPC's (letters, flats)/RPDC's (parcels) service area. Labeling:

1. Line 1: Use L005, Column B for letters, L016, Column B for flats, L051, Column B for parcels.

2. Line 2: For flats and nonstandard parcels, “STD” followed by “FLTS” or “NONSTD,” as applicable; followed by “SCF”; followed by “BARCODED” (or “BC”) if pallet contains automation price mail; followed by “NONBARCODED” (or “NBC”) if pallet contains carrier route and/or Presorted price mail. For letters, “STD LTRS SCF”; followed by “BC” if pallet contains barcoded letters; followed by “MACH” if pallet contains machinable letters; followed by “MAN” if pallet contains nonmachinable letters.

* * * * *

8.10.4 Package Services Flats—Bundles and Sacks

* * * * *

[Revise item (e) to read as follows:]

e. SCF/LPC, required, permitted for bundles and sacks. The pallet may contain carrier route and/or Presorted price mail with or without a barcode for the 3-digit ZIP Code groups in L016. Labeling:

1. Line 1: Use L016, Column B.

2. Line 2: “PSVC FLTS SCF”; followed by “BARCODED” (or “BC”) if pallet contains Presorted price mail with a barcode; followed by “NONBARCODED” (or “NBC”) if pallet contains carrier route and/or Presorted price mail without a barcode.

* * * * *

8.10.5 Package Services Nonstandard Parcels—Bundles and Sacks

* * * * *

[Revise item (h) to read as follows:]

h. SCF/RPDC, required, permitted for bundles and sacks. The pallet may contain carrier-route-price and/or Presorted-price mail for the 3-digit ZIP Code groups in L051. Labeling:

1. Line 1: Use L051, Column B.

2. Line 2: “PSVC NONSTD SCF.”

* * * * *

8.10.6 Combined Mailings of USPS Marketing Mail Marketing Parcels 3.5 Ounces or More, USPS Marketing Mail, Package Services, and Parcel Select Machinable Parcels

* * * * *

[Revise item (c) to read as follows:]

c. SCF/RPDC, optional, but required for DSCF prices. Pallets must contain only parcels for the 3-digit ZIP Code groups in L051. Labeling:

1. Line 1: Use L051, Column B.

2. Line 2: “STD/PSVC MACH SCF.”

* * * * *

8.10.8 Nonstandard Parcels Weighing 2 Ounces or More—USPS Marketing Mail, Including Marketing Parcels

* * * * *

[Revise item (c) to read as follows:]

c. SCF/RPDC, required. Allowed only for mail deposited at a DSCF/DRPDC to claim SCF price. labeling:

1. Line 1: Use L051, Column B.

2. Line 2: Use “STD NONSTD SCF.”

* * * * *

9.0 Combining Bundles of Automation and Nonautomation Flats in Flat Trays and Sacks

9.1 Periodicals

* * * * *

9.1.4 Optional Sack Preparation and Labeling

* * * * *

[Revise item (c) to read as follows:]

c. SCF, required at 72 pieces, optional at 24 pieces minimum; labeling:

1. Line 1: use L016, Column B.

2. Line 2: use “PER” or “NEWS” as applicable and “FLTS SCF BC/NBC.”

* * * * *

9.1.5 Flay Tray Preparation—Flat-size Machinable Pieces

* * * * *

[Revise items (d) and (e) to read as follows:]

d. SCF, required at 72 pieces; optional at 24 pieces minimum, labeling:

1. Line 1: L016, Column B.

2. Line 2: “PER” or “NEWS” as applicable; followed by “FLTS”; followed by “SCF BC/NBC.”

e. Origin SCF (required) and entry SCF(s) (optional), no minimum, labeling:

1. Line 1: L016, Column B.

2. Line 2: “PER” or “NEWS” as applicable; followed by “FLTS”; followed by “SCF BC/NBC.”

* * * * *

9.3 Bound Printed Matter

* * * * *

9.3.4 Flat Tray/Sack Preparation and Labeling

* * * * *

[Revise item (c) to read as follows:]

c. SCF, optional, minimum 20 addressed pieces; labeling:

1. Line 1: L016, Column B.

2. Line 2: “PSVC FLTS SCF BC/NBC.”

* * * * *

10.0 Merging Bundles of Flats Using the City State Product

* * * * *

10.2 USPS Marketing Mail

* * * * *

10.2.5 Pallet Preparation and Labeling

* * * * *

[Revise item (g) to read as follows:]

g. SCF/LPC, required, may contain carrier-route price, automation-price, and Presorted-price bundles. Labeling:

1. Line 1: use L016, Column B.

2. Line 2: “STD FLTS SCF”; followed by “BARCODED” or “BC” if the pallet contains automation price mail; followed by “NONBARCODED” or “NBC” if the pallet contains Presorted price mail and/or carrier route price mail.

* * * * *

12.0 Merging Bundles of Flats on Pallets Using a 5 Percent Threshold

* * * * *

12.2 USPS Marketing Mail

* * * * *

12.2.3 Pallet Preparation and Labeling

* * * * *

[Revise item (g) to read as follows:]

g. SCF/LPC, required, may contain carrier-route price, automation-price, and Presorted-price bundles. Labeling:

1. Line 1: use L016, Column B.

2. Line 2: “STD FLTS SCF”; followed by “BARCODED” or “BC” if the pallet contains automation price mail; followed by “NONBARCODED” or “NBC” if the pallet contains Presorted price mail and/or carrier route price mail.

* * * * *

13.0 Merging Bundles of Flats on Pallets Using the City State Product and a 5-Percent Threshold

* * * * *

13.2 USPS Marketing Mail

* * * * *

13.2.4 Pallet Preparation and Labeling

* * * * *

[Revise item (g) to read as follows:]

g. SCF/LPC, required, may contain carrier-route price, automation-price, and Presorted-price bundles. Labeling:

1. Line 1: use L016, Column B.

2. Line 2: “STD FLTS SCF”; followed by “BARCODED” or “BC” if the pallet contains automation price mail; and followed by “NONBARCODED” or “NBC” if the pallet contains Presorted price mail and/or carrier route price mail.

* * * * *

15.0 Combining USPS Marketing Mail Flats, Bound Printed Matter Flats, and Periodicals Flats

* * * * *

15.4 Pallet Preparation

15.4.1 Pallet Preparation, Sequence and Labeling

* * * * *

[Revise item (g) to read as follows:]

g. SCF/LPC, required. Pallet may contain carrier route, automation or Presorted mail for the 3-digit ZIP Code groups in L016. Labeling:

1. Line 1: Use L016, Column B.

2. Line 2: “STD/BPM/PER FLTS SCF”; followed by “BARCODED” (or “BC”); “NONBARCODED” (or “NBC”) for Presorted mail, or “BARCODED/NONBARCODED” (or “BC/NBC”) for mixed pallets; followed by “MIX COMAIL.”

* * * * *

Daria Valan,
Attorney, Ethics and Legal Compliance.

[FR Doc. 2025-20450 Filed 11-19-25; 8:45 am]

BILLING CODE 7710-12-P